DEPARTMENT OF COMMERCE

National Oceanic and Atmospheric Administration

RIN 0648-XG861

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council (Council) will hold a public meeting of its Advisory Panels (AP) for management plans requiring commercial permits.

DATES: The meeting will be held on Monday, March 25, 2019, from 9 a.m. until 12 p.m.

ADDRESSES: The meeting will be held via webinar with a telephone-only connection option. Registration and connection details will be posted at: http://www.mafmc.org.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Council's AP for fishery management plans requiring commercial permits (Mackerel, Squid, and Butterfish; Summer Flounder, Scup, and Black Sea Bass; Bluefish; Spiny Dogfish; Surfclam and Ocean Quahog; and Tilefish) will meet to provide input on the upcoming Commercial Electronic Vessel Trip Report (eVTR) Omnibus Framework and associated topics. The Council will consider feedback provided by the AP at its April 2019 meeting, which will be the first framework meeting for this action.

Special Accommodations

The meeting is physically accessible to people with disabilities. Requests for sign language interpretation or other auxiliary aid should be directed to M. Jan Saunders, (302) 526-5251, at least 5 days prior to the meeting date.

Dated: March 5, 2019.
Tracey L. Thompson,
Acting Deputy Director, Office of Sustainable Fisheries, National Marine Fisheries Service.

[FR Doc. 2019-04225 Filed 3-7-19; 8:45 am]

BILLING CODE 3510-22-P